DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: U.S. Government Trade Event Information Request.

OMB Control Number: 0625-0238.

Form Number(s): ITA-4136.

Type of Request: Regular submission.

Burden Hours: 200.

Number of Respondents: 400.

Average Hours per Response: 30 minutes.

Needs and Uses: Expanding U.S. exports is a national priority essential to improving U.S. trade performance. The International Trade Administration's (ITA) Advocacy Center marshals federal resources to assist U.S. firms competing for foreign government procurements worldwide. The Advocacy Center works closely with the Trade Promotion Coordination Committee, which is chaired by the Secretary of Commerce and includes 20 federal agencies involved in export promotion. The purpose of the U.S. Government Trade Event Information Request is to collect the necessary information to make an evaluation as to whether a firm qualifies for senior-level U.S. government (USG) support, in the form of attendance at an event including witnessing the signing of a commercial agreement (e.g., most often a contract).

Affected Public: Business or other for-profit organizations.

Frequency: On occasion.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Wendy Liberante, OMB Desk Officer, FAX number (202) 395-5167 or via the Internet at Wendy_L._Liberante@omb.eop.gov.

Dated: July 21, 2010.
Gwellnar Banks,
Management Analyst, Office of the Chief Information Officer.

[FR Doc. 2010-18295 Filed 7-26-10; 8:45 am]

BILLING CODE 3510-FP-P